NATIONAL AERONAUTICS AND SPACE ADMINISTRATION

[Notice 03-148]

NASA Advisory Council, Minority Business Resource Advisory Committee; Meeting

AGENCY: National Aeronautics and Space Administration (NASA).

ACTION: Notice of meeting.

SUMMARY: In accordance with the Federal Advisory Committee Act, Pub. L. 92-463, as amended, the National Aeronautics and Space Administration announce a forthcoming meeting of the NASA Advisory Council (NAC), Minority Business Resource Advisory Committee.

DATES: Thursday, December 11, 2003, 9 a.m. to 4 p.m., and Friday, December 12, 2003, 9 a.m. to 12 Noon.

ADDRESSES: NASA Langley Research Center, Bldg. 1219, Room 225, Hampton, VA 23681.

FOR FURTHER INFORMATION CONTACT: Mr. Ralph C. Thomas III, Code K, National Aeronautics and Space Administration, (202) 358-2088.

SUPPLEMENTARY INFORMATION: The meeting will be open to those of the public.

The agenda is as follows:

—Review of Previous Meeting

—Return to Flight

—NAC Meeting Report

—Overview of Langley Small Business Program

—NASA Safety Center

—Public Comment

—Agency Small Disadvantaged Business Update

—Committee Panel Reports

—New Business

Attendees will be requested to contact Vernon Vann at (757) 864-2456 to comply with NASA security requirements, including the presentation of a valid picture ID, before receiving an access badge. Foreign nationals attending this meeting will be required to contact Vernon Vann at (757) 864-2456 to provide the following information: Full name; gender; date/place of birth; citizenship; employee/affiliation information (name of institution, address, country, phone); title/position of attendee. To expedite admittance, attendees can provide identifying information in advance by contacting Mr. Vernon Vann via email at a.v.vann@larc.nasa.gov or by telephone at (757) 864-2456. Attendees will be escorted at all times.

It is imperative that the meeting be held on this date to accommodate the scheduling priorities of the key participants.

June Edwards,
Advisory Committee Management Officer, National Aeronautics and Space Administration.

[FR Doc. 03-28950 Filed 11-19-03; 8:45 am]

BILLING CODE 7510-01-P